DEPARTMENT OF THE INTERIOR

Fish and Wildlife Service

[Docket No. FWS-R6-ES-2020-0116; FF06E23000-234-FXES11140600000]

Endangered and Threatened Wildlife and Plants; Enhancement of Survival Permit Application; Candidate Conservation Agreement With Assurances and Categorical Exclusion for the Greater Sage-Grouse; Morgan, Rich, Summit, and Weber Counties, Utah

AGENCY: Fish and Wildlife Service, Interior.

ACTION: Notice of availability; request for comments.

SUMMARY: We, the U.S. Fish and Wildlife Service (Service), are announcing the availability of documents related to an application for an enhancement of survival permit (permit) under the Endangered Species Act. Farmland Reserve, Inc. (FRI) and AgReserves, Inc. (ARI) (collectively referred to as DLL) have applied for a permit associated with the implementation of a candidate conservation agreement with assurances (CCAA) for the greater sage-grouse (Centrocercus urophasianus) for the Deseret Land and Livestock (DLL Ranch) in Utah. The purpose of this CCAA is for the Service to join with the Utah Division of Wildlife Resources and DLL (collectively, the parties to this CCAA), to implement conservation measures for greater sage-grouse in a manner that is consistent with the Service's Policy on CCAAs and applicable Service regulations. The documents available for review and comment are the applicant's CCAA, which is part of the permit application, and our draft environmental action statement and low-effect screening form, which support a categorical exclusion under the National Environmental Policy Act. We invite comments from the public and Federal, Tribal, State, and local governments.

DATES: We will accept comments received or postmarked on or before July 3, 2023. Comments submitted online at https://www.regulations.gov (see ADDRESSES) must be received by 11:59 p.m. Eastern Time on July 3, 2023.

ADDRESSES:

Obtaining Documents: The documents this notice announces, as well as any comments and other materials that we receive, will be available for public inspection online in Docket No. FWS-R6-ES-2020-0116 at https://www.regulations.gov.

Submitting comments: To submit written comments, please use one of the following methods, and note that your information requests or comments are in reference to the DLL CCAA for greater sage-grouse.

• Online: https://www.regulations.gov. Follow the instructions for submitting comments to Docket Number FWS-R6-ES-2020-0116.

• U.S. Mail: Public Comments Processing, Attn: Docket No. FWS-R6-ES-2020-0116; U.S. Fish and Wildlife Service Headquarters, MS: PRB/3W; 5275 Leesburg Pike; Falls Church, VA 22041-3803.

We request that you send comments by only one of the methods described above.

FOR FURTHER INFORMATION CONTACT: George Weekley, by phone at 385-285-7929 or email at george_weekley@fws.gov. Individuals in the United States who are deaf, deafblind, hard of hearing, or have a speech disability may dial 711 (TTY, TTD, or TeleBraille) to access telecommunications relay services. Individuals outside the United States should use the relay services offered within their country to make international calls to the point-of-contact in the United States.

SUPPLEMENTARY INFORMATION: We, the U.S. Fish and Wildlife Service (Service), have received an application from Farmland Reserve, Inc. (FRI) and AgReserves, Inc. (ARI) (collectively referred to as DLL). The applicants have applied for a 30-year enhancement of survival permit (permit) under the Endangered Species Act of 1973, as amended (ESA or Act; 16 U.S.C. 1531 et seq.). The application addresses the potential take of the greater sage-grouse (Centrocercus urophasianus) associated with the implementation of a candidate conservation agreement with assurances (CCAA) on the Deseret Land and Livestock Ranch (DLL Ranch) in Morgan, Rich, Summit, and Weber Counties, Utah.

A CCAA is an agreement between the Service, partners, and landowners for voluntary management of non-Federal lands to remove or reduce threats to species that may become listed under the Act. In return for implementing conservation measures in a CCAA, the Service gives participants assurances that, should the covered species become listed, the Service would not impose land, water, or resource use restrictions or conservation requirements beyond those agreed to in the CCAA.

Applicant's Candidate Conservation Agreement With Assurances

FRI and ARI have submitted this CCAA to implement conservation measures for greater sage-grouse on private lands of the DLL Ranch. The DLL Ranch is located primarily in Morgan, Rich, Summit, and Weber Counties in northern Utah, and is comprised of approximately 210,421 acres (328.8 square miles) of private land. The DLL Ranch has historically participated in greater sage-grouse conservation without any regulatory assurances. This permit would provide DLL with regulatory assurances and incentives under the ESA based on DLL's ongoing commitments for proactive conservation for greater sage-grouse. The requested permit duration is for 30 years. Proposed conservation measures include continued management of grazing and associated vegetation treatments so that the population of greater sage-grouse is maintained or improves over the term of the agreement. These management strategies include: (1) using green-strips to minimize fire in greater sage-grouse winter habitat; (2) careful planning and execution of rest-rotation grazing; and (3) vegetation treatments for sagebrush management, such as disking and planting native vegetation, prescribed fire, sheep browsing, chemical treatment, and mechanical treatment.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the Act (16 U.S.C. 1531 et seq.) and its implementing regulations (50 CFR 17.22 and 17.32) and NEPA (42 U.S.C. 4321 et seq.) and its implementing regulations (40 CFR 1506.6 and 43 CFR 46.305).

Clinton Riley,
Acting Assistant Regional Director, Ecological Services, Mountain-Prairie Region.

[FR Doc. 2023-11708 Filed 5-31-23; 8:45 am]

BILLING CODE 4333-15-P